DEPARTMENT OF HOMELAND SECURITY

Federal Emergency Management Agency

[Docket ID FEMA-2019-0002; Internal Agency Docket No. FEMA-B-1980]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona: Pinal | Town of Florence (19-09-2018P) | The Honorable Tara Walter, Mayor, Town of Florence, P.O. Box 2670, Florence, AZ 85132 | Public Works Department, 224 West 20th Street, Florence, AZ 85132 | https://msc.fema.gov/portal/advanceSearch | Mar. 6, 2020 | 040084
California:
Alameda | City of Dublin (19-09-0927P) | The Honorable David G. Haubert, Mayor, City of Dublin, 100 Civic Plaza, Dublin, CA 94568 | Public Works Department, 100 Civic Plaza, Dublin, CA 94568 | https://msc.fema.gov/portal/advanceSearch | Mar. 16, 2020 | 060705
Alameda | City of Pleasanton (19-09-0927P) | The Honorable Jerry Thorne, Mayor, City of Pleasanton, P.O. Box 520, Pleasanton, CA 94566 | Engineering Department, 200 Old Bernal Avenue, Pleasanton, CA 94566 | https://msc.fema.gov/portal/advanceSearch | Mar. 16, 2020 | 060012
Contra Costa | Unincorporated Areas of Contra Costa County (19-09-1287P) | The Honorable John M. Gioia, Chairman, Board of Supervisors, Contra Costa County, 11780 San Pablo Avenue, Suite D, El Cerrito, CA 94530 | Contra Costa County, Public Works Department, 255 Glacier Drive, Martinez, CA 94553 | https://msc.fema.gov/portal/advanceSearch | Mar. 13, 2020 | 060025
Los Angeles | City of Hidden Hills (18-09-1642P) | The Honorable Larry G. Weber, Mayor, City of Hidden Hills, 6165 Spring Valley Road, Hidden Hills, CA 91302 | Building and Safety Department, 6165 Spring Valley Road, Hidden Hills, CA 91302 | https://msc.fema.gov/portal/advanceSearch | Mar. 18, 2020 | 060125
San Diego | Unincorporated Areas of San Diego County (19-09-0630P) | The Honorable Dianne Jacob, Chair, Board of Supervisors, San Diego County, 1600 Pacific Highway, Room 335, San Diego, CA 92101 | San Diego County Flood Control District, Department of Public Works, 5510 Overland Avenue, Suite 410, San Diego, CA 92123 | https://msc.fema.gov/portal/advanceSearch | Mar. 13, 2020 | 060284
Florida:
Bay | City of Panama City Beach (19-04-4255P) | The Honorable Mike Thomas, Mayor, City of Panama City Beach, 110 South Arnold Road, Panama City Beach, FL 32413 | City Hall, 110 South Arnold Road, Panama City Beach, FL 32413 | https://msc.fema.gov/portal/advanceSearch | Mar. 11, 2020 | 120013
Bay | Unincorporated Areas of Bay County (19-04-4490P) | Mr. Robert Majka, Jr., County Manager, Bay County, 840 West 11th Street, Panama City, FL 32401 | Bay County Planning and Zoning, 707 Jenks Avenue, Suite B, Panama City, FL 32401 | https://msc.fema.gov/portal/advanceSearch | Mar. 11, 2020 | 120004
Nassau | Unincorporated Areas of Nassau County (19-04-4060P) | The Honorable Daniel B. Leeper, Vice-Chairman, Nassau County Commissioner, 96135 Nassau Place, Suite 1, Yulee, FL 32097 | Nassau County, Building Department, 96161 Nassau Place, Yulee, FL 32097 | https://msc.fema.gov/portal/advanceSearch | Mar. 12, 2020 | 120170
Illinois:
DuPage | City of Naperville (19-05-3885P) | The Honorable Steve Chirico, Mayor, City of Naperville, 400 South Eagle Street, Naperville, IL 60540 | City Hall, 400 South Eagle Street, Naperville, IL 60540 | https://msc.fema.gov/portal/advanceSearch | Mar. 12, 2020 | 170213
Williamson | City of Carterville (19-05-2993P) | The Honorable Bradley Robinson, Mayor, City of Carterville, 103 South Division Street, Carterville, IL 62918 | City Hall, 103 South Division Street, Carterville, IL 62918 | https://msc.fema.gov/portal/advanceSearch | Mar. 13, 2020 | 170716
Indiana:
Allen | City of Fort Wayne (19-05-4349P) | The Honorable Tom Henry, Mayor, City of Fort Wayne, 200 East Berry Street, Suite 420, Fort Wayne, IN 46802 | Department of Planning Services, 200 East Berry Street, Suite 150, Fort Wayne, IN 46802 | https://msc.fema.gov/portal/advanceSearch | Mar. 11, 2020 | 180003
Morgan | Unincorporated Areas of Morgan County (19-05-3282P) | Mr. Norman Voyles, Morgan County Commissioner, 180 South Main Street, Suite 112, Martinsville, IN 46151 | Morgan County Administration Building, 180 South Main Street, Martinsville, IN 46151 | https://msc.fema.gov/portal/advanceSearch | Mar. 6, 2020 | 180176
New York:
Westchester | Town of Bedford (18-02-1615P) | The Honorable Chris Burdick, Supervisor, Town of Bedford, 321 Bedford Road, Bedford Hills, NY 12550 | Town Planning Office, 425 Cherry Street, Bedford, NY 10507 | https://msc.fema.gov/portal/advanceSearch | Mar. 20, 2020 | 360903
Westchester | Village of Mount Kisco (18-02-1615P) | The Honorable Gina D. Picinich, Mayor, Village of Mount Kisco, 104 Main Street, Mount Kisco, NY 10549 | Village Engineer, 104 Main Street, Mount Kisco, NY 10549 | https://msc.fema.gov/portal/advanceSearch | Mar. 20, 2020 | 360918
Texas: Tarrant | City of Fort Worth (19-06-0709P) | The Honorable Betsy Price, Mayor, City of Fort Worth, 200 Texas Street, Fort Worth, TX 76102 | Department of Transportation and Public Works, 1000 Throckmorton Street, Fort Worth, TX 76102 | https://msc.fema.gov/portal/advanceSearch | Mar. 12, 2020 | 480596

[FR Doc. 2019-27962 Filed 12-26-19; 8:45 am]

BILLING CODE 9110-12-P